ENVIRONMENTAL PROTECTION AGENCY

[EPA-OW-2018-0270; FRL-9981-86-OW]

Announcement of the Per- and Polyfluoroalkyl Substances (PFAS) North Carolina Community Engagement

AGENCY: Environmental Protection Agency (EPA).

ACTION: Notice of an event.

SUMMARY: The Environmental Protection Agency (EPA) will host a Per- and Polyfluoroalkyl Substances (PFAS) community engagement in Fayetteville, North Carolina. The goal of the event is to allow the EPA to hear directly from North Carolina communities to understand ways the Agency can best support the work that is being done at the state, local, and tribal level. For more information on the event, visit the EPA's PFAS website: https://www.epa.gov/pfas/pfas-community-engagement. During the recent PFAS National Leadership Summit, the EPA announced plans to visit communities to hear directly from those impacted by PFAS. These engagements are the next step in the EPA's commitment to address challenges with PFAS. The EPA anticipates that the community engagements will provide valuable insight for the Agency's efforts moving forward. For more information, go to the SUPPLEMENTARY INFORMATION section of this notice.

DATES: The event will be held on August 14, 2018, from 10 a.m. to 8 p.m., eastern time. The public listening session will begin at 3 p.m., eastern time.

ADDRESSES: The event will be held at the Crown Ballroom, 1960 Coliseum Drive, Fayetteville, North Carolina 28306. If you are unable to attend the North Carolina Community Engagement event, you will be able to submit comments at http://www.regulations.gov: Enter Docket ID No. EPA-OW-2018-0270. Citizens, including those that attend and provide oral statements, are encouraged to send written statements to the public docket. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Davina Marraccini, USEPA Region 4, 61 Forsyth Street SW (Mail Code 9T24), Atlanta, Georgia 30303-8960; telephone number: 404-562-8293; email address: marraccini.davina@epa.gov.

SUPPLEMENTARY INFORMATION:

Details about Participating in the Event: The public is invited to speak during the August 14 listening session. Those interested in speaking can sign up for a 3-minute speaking slot on the EPA's website at https://www.epa.gov/pfas/pfas-community-engagement. Please check this website for event materials as they become available, including a full agenda, leading up to the event.

The PFAS National Leadership Summit: On May 22-23, 2018, the EPA hosted the PFAS National Leadership Summit. During the summit, participants worked together to share information on ongoing efforts to characterize risks from PFAS, develop monitoring and treatment/cleanup techniques, identify specific near-term actions (beyond those already underway) that are needed to address challenges currently facing states and local communities, and develop risk communication strategies that will help communities to address public concerns regarding PFAS.

The EPA wants to assure the public that their input is valuable and meaningful. Using information from the National Leadership Summit, public docket, and community engagements, the EPA plans to develop a PFAS Management Plan for release later this year. A summary of the North Carolina Community Engagement will be made available to the public following the event on the EPA's PFAS Community Engagement website at: https://www.epa.gov/pfas/pfas-community-engagement.

Dated: July 27, 2018.
Jennifer McLain,
Acting Director, Office of Ground Water and Drinking Water.

[FR Doc. 2018-16805 Filed 8-3-18; 8:45 am]

BILLING CODE 6560-50-P